ENVIRONMENTAL PROTECTION AGENCY

40 CFR Parts 51, 52, 70, and 71

[EPA-HQ-OAR-2006-0089; FRL-8560-9]

RIN 2060-AN77

Treatment of Certain Ethanol Production Facilities Under the “Major Emitting Facility” Definition; Notice of Action Denying Petition for Reconsideration and Denying Request for Stay

AGENCY: Environmental Protection Agency (EPA).

ACTION: Notice of Action Denying Petition for Reconsideration and Request for a Stay.

SUMMARY: The EPA is providing notice that it has responded to a petition for reconsideration of the final rule published May 1, 2007, entitled “Prevention of Significant Deterioration, Nonattainment New Source Review and Title V: Treatment of Certain Ethanol Production Facilities Under the `Major Emitting Facility' Definition.” (“ethanol rule”) The final ethanol rule changed the effect of the applicability provisions of two separate permitting programs under the Clean Air Act (CAA): the major New Source Review (NSR) program and the Title V programs. The final rule changed the “major stationary source” and “major source” definitions by amending the definition of “chemical process plants” under the regulatory definition of “major emitting facility” to exclude ethanol manufacturing facilities that produce ethanol by natural fermentation processes. On July 2, 2007, EPA received a petition for reconsideration pursuant to 307(d)(7)(B) of the CAA from the Natural Resources Defense Council (“NRDC”). The NRDC petition also requested that EPA stay implementation of the final rule pending reconsideration of the rule.

The NRDC petition for reconsideration can be found in the rulemaking docket under Docket ID No. EPA-HQ-OAR-2006-0089. The EPA considered the petition and the information in the rulemaking docket in reaching a decision on the petition. The EPA Administrator Stephen L. Johnson denied the petition for reconsideration and the request for a stay of the rule in a letter to the petitioner dated March 27, 2008. The letter documents EPA's reasons for the denial and can be found in the rulemaking docket.

FOR FURTHER INFORMATION CONTACT: Ms. Joanna Swanson, Air Quality Policy Division, (C339-03), Environmental Protection Agency, Research Triangle Park, NC 27711, telephone number: (919) 541-5282; fax number: (919) 541-5509; e-mail address: swanson.joanna@epa.gov.

SUPPLEMENTARY INFORMATION:

I. How Can I Obtain Copies of this Document and Other Related Information?

This Federal Register notice, the petition for reconsideration, and the letter denying the petition for reconsideration and the request for a stay of the rule during the reconsideration are available in the docket that EPA established for the “Prevention of Significant Deterioration, Nonattainment New Source Review, and Title V: Treatment of Certain Ethanol Production Facilities Under the `Major Emitting Facility' Definition” rulemaking (Docket number EPA-HQ-OAR-2006-0089). The table below identifies the petitioner, the date EPA received the petition, the document identification number for the petition, the date of EPA's response, and the document identification number for EPA's response. Note that all the document numbers listed in the table are in the form of “EPA-HQ-OAR-2006-0089-xxxx.”)

Petitioner | Date of petition to EPA | Petition: Document No. in docket | Date of EPA response | EPA response: Document No. in docket
Natural Resources Defense Council | 7/2/2007 | −0153.1 | 3/27/2008 | −0155

The docket for EPA's denial of NRDC's petition for reconsideration is Docket ID No. EPA-HQ-OAR-2006-0089. All documents in the docket are listed on the http://www.regulations.gov Web site. Although listed in the index, some information may not be publicly available, i.e., confidential business information or other information whose disclosure is restricted by statute. Certain other material, such as copyrighted material, is not placed on the Internet and will be publicly available only in hard copy form. Publicly available docket materials are available either electronically through http://www.regulations.gov or in hard copy at the EPA Docket Center, Docket ID No. EPA-HQ-OAR-2006-0089, EPA West, Room 3334, 1301 Constitution Ave., NW., Washington, DC. The Public Reading Room is open from 8:30 a.m. to 4:30 p.m., Monday through Friday, excluding legal holidays. The telephone number for the Public Reading Room is (202) 566-1744, and the telephone number for the EPA Docket Center is (202) 566-1742.

In addition to being available in the docket, an electronic copy of today's notice of EPA's decision denying NRDC's petition for reconsideration and request for a stay of the rule pending reconsideration and of EPA's response letter to NRDC outlining the reasons for the denial will also be available on the World Wide Web. Following signature by the Principal Deputy Assistant Administrator, Office of Air and Radiation, a copy of this notice will be posted on EPA's New Source Review Web site, under Regulations & Standards, at http://www.epa.gov/nsr.

Dated: April 24, 2008.
Robert J. Meyers,
Principal Deputy Assistant Administrator, Office of Air and Radiation.

[FR Doc. E8-9749 Filed 5-1-08; 8:45 am]

BILLING CODE 6560-50-P